DEPARTMENT OF COMMERCE

National Oceanic and Atmospheric Administration

50 CFR Part 223

[I.D. 050101B]

Endangered and Threatened Species; Notice of Public Hearings on Proposed Rule Governing Take of Four Threatened Evolutionarily Significant Units (ESUs) of West Coast Salmonids: California Central Valley Spring-run chinook; California Coastal chinook; Northern California steelhead; Central California Coast coho

AGENCY: National Marine Fisheries Service (NMFS), National Oceanic and Atmospheric Administration (NOAA), Commerce.

ACTION: Request for comment and announcement of public hearings.

SUMMARY: On August 17, 2001, NMFS proposed an Endangered Species Act (ESA) 4(d) protective rule for four threatened salmonid ESUs that occur in California. The proposed 4(d) rule would apply the take prohibitions in section 9(a)(1) of the ESA in most circumstances to California Central Valley spring chinook, California Coastal chinook, and Northern California steelhead which currently have no 4(d) protective regulation in place. However, for these three threatened ESUs, NMFS is proposing 10 categories of activities for which the take prohibitions would not apply. For the threatened Central California Coast coho salmon ESU, NMFS is proposing to amend the existing 4(d) rule to establish the same 10 limitations on the take prohibitions that are being proposed for the other threatened ESUs covered by this rule.

This Federal Register document announces three public hearings that NMFS has scheduled to provide the public with opportunities to comment on the proposed protective rule and to provide information to the public about the rule.

DATES: Comments on the proposed 4(d) rule must be received on or before October 1, 2001. Public hearings on the proposed ESA 4(d) rule will be held as follows: (1) September 13, 2001, 6-9 p.m., Chico, CA; (2) September 18, 2001, 6-9 p.m., Eureka, CA; and (3) September 20, 2001, 6-9 p.m., Ukiah, CA.

ADDRESSES: Comments on the proposed 4(d) rule should be sent to the Assistant Regional Administrator, Protected Resources Division, NMFS, 501 W. Ocean Blvd., Suite 4200, Long Beach, CA 90802-4213. Comments will not be accepted via e-mail or Internet

The hearings will be held at the following locations:

(1) Chico, CA—Chico Masonic Family Center’ 1110 West East Avenue, Chico, CA 95926;

(2) Eureka, CA—Eureka Inn, 518 7th Street, Eureka, CA, 95501; and

(3) Ukiah, CA—Ukiah Valley Conference Center, 200 South School Street, Ukiah, CA 95482.

FOR FURTHER INFORMATION CONTACT: Craig Wingert at 562-980-4021; Miles Croom at 707-575-6068; Diane Windham at 916-930-3601, Greg Bryant at 707-825-5162, or Chris Mobley at 301-713-1401. Copies of the Federal Register documents cited herein and additional salmon-related materials are available via the Internet at http://swr.nmfs.noaa.gov or http://nwr.nmfs.noaa.gov.

SUPPLEMENTARY INFORMATION:

Background

On September 16, 1999, NMFS published a final rule listing the California Central Valley spring-run chinook and California Coastal chinook ESUs as threatened species (64 FR 50394). In a final rule published on June 7, 2000, NMFS also listed the Northern California steelhead ESU as a threatened species (65 FR 36074). These final rules describe the background for the listing actions and provide a summary of NMFS’ conclusions regarding the status of the three ESUs. No protective regulations, pursuant to section 4(d) of the ESA, have been promulgated for these three ESUs. On October 31, 1996, NMFS listed the Central California Coast coho salmon ESU as a threatened species and simultaneously promulgated a 4(d) which imposed the section 9(a)(1) take prohibitions on this ESU (61 FR 56138). This 4(d) rule, however, does not include any of the take limitations which NMFS has incorporated into subsequent 4(d) rules for threatened salmonid ESUs (65 FR 42422).

On August 17, 2001, NMFS proposed an ESA 4(d) protective rule for these four threatened salmonid ESUs (66 FR 43150). The proposed 4(d) rule would apply the take prohibitions in section 9(a)(1) of the ESA, in most circumstances, to the California Central Valley spring chinook, California Coastal chinook, and Northern California steelhead ESUs. In addition to applying the section 9 take prohibitions, the proposed 4(d) rule would establish 10 categories of activities for which the take prohibitions would not apply for each of these three ESUs. NMFS believes these activities, if conducted as described in the proposed rule, would contribute to the conservation of the threatened salmonid ESUs. For the threatened Central California Coast coho salmon ESU, NMFS is proposing to amend the existing 4(d) rule which applies the section 9 take prohibitions to this ESU in order to establish the same 10 limitations on the take prohibitions that are being proposed for the other threatened ESUs covered by the rule.

Public Hearings

Public hearings on the proposed ESA 4(d) rule provide the opportunity for the public to give comments and to permit an exchange of information and opinion among interested parties. NMFS encourages public involvement in such ESA matters and has decided to schedule hearings on these proposals prior to being requested to do so.

NMFS is soliciting specific information, comments, data, and/or recommendations on any aspect of the proposed 4(d) rule from all interested parties. In particular, NMFS is requesting information or data as described in the Federal Register documents announcing the proposed 4(d) rule. NMFS will consider all information, comments, and recommendations received before reaching a final decision.

The public will have the opportunity to provide oral and written testimony at the public hearings. Written comments on the proposals may also be submitted (see DATES and ADDRESSES).

Special Accommodations

These hearings are physically accessible to people with disabilities. Requests for sign language interpretation or other aids should be directed to Craig Wingert (see ADDRESSES) by 7 days prior to each hearing date.

Dated: September 10, 2001.
Phil Williams,
Acting Director, Office of Protected Resources, National Marine Fisheries Service.

[FR Doc. 01-23007 Filed 9-10-01; 2:46 pm]

BILLING CODE 3510-22-S